OFFICE OF SCIENCE AND TECHNOLOGY POLICY

Aeronautics Science and Technology Subcommittee Committee on Technology; National Science and Technology Council

ACTION: Notice of listening session and invitation to submit white papers. Public consultation is requested regarding the biennial update to the National Plan for Aeronautics Research and Development and Related Infrastructure.

SUMMARY: Executive Order (E.O.) 13419—National Aeronautics Research and Development—signed December 20, 2006, and the National Aeronautics Research and Development Policy that was developed by the National Science and Technology Council (NSTC) call for executive departments and agencies conducting aeronautics research and development (R&D) to engage industry, academia and other non-Federal stakeholders in support of government planning and performance of aeronautics R&D. E.O. 13419 further requires a biennial update to the National Plan for Aeronautics Research and Development and Related Infrastructure (Plan).

Announcement of Listening Session: This Federal Register notice announces the Aeronautics Science and Technology Subcommittee (ASTS) of the NSTC's Committee on Technology decision to hold a listening session to receive feedback on the biennial update to the Plan. At this listening session, ASTS members will listen to public feedback on the mobility goals and objectives in the biennial update to the Plan.

DATES AND ADDRESSES: The listening session will be held in conjunction with 9th AIAA Aviation Technology, Integration, and Operations Conference (ATIO) and Aircraft Noise and Emissions Reduction Symposium (ANERS) at the Marriott Hilton Head Beach and Golf Resort, Oceanfront at Palmetto Dunes, One Hotel Circle, Hilton Head Island, SC 29928. The listening session will be held on Wednesday, September 23, 2009, from 3:30 p.m. to 5:30 p.m. in the Sabal Palm Ballroom. Information regarding the 9th AIAA Aviation Technology, Integration, and Operations Conference (ATIO) and Aircraft Noise and Emissions Reduction Symposium (ANERS) is available at the AIAA Web site: http://www.aiaa.org.

Note: Persons solely attending the ASTS listening session do not need to register for the AIAA Conference and Symposium to attend this session. There will be no admission charge for persons solely attending the listening session. Seating is limited and will be on a first come, first served basis.

Submission of White Papers: White papers are also invited and encouraged from those individuals who may want to provide information for consideration during the biennial update to the Plan. Of particular interest is aeronautics R&D information that may be used during consideration of the biennial update to enhance the national aeronautics R&D challenges, goals and objectives related to: mobility; national security and homeland defense; aviation safety; and energy and the environment currently contained in the Plan. The submission of white papers is invited through September 10, 2009 and details regarding the submission of white papers are available at: http://www.ostp.gov/nstc/aeroplans.

FOR FURTHER INFORMATION CONTACT: Additional information and links to E.O. 13419, the National Aeronautics Research and Development Policy, the National Plan for Aeronautics Research and Development and Related Infrastructure, and the Technical Appendix—National Plan for Aeronautics Research and Development and Related Infrastructure are available by visiting the Office of Science and Technology Policy's NSTC Web site at: http://www.ostp.gov/nstc/aeroplans or by calling 202-456-6601.

M. David Hodge,
Operations Manager, OSTP.

[FR Doc. E9-20353 Filed 8-21-09; 8:45 am]

BILLING CODE 3170-W9-P